DEPARTMENT Of STATE

[Public Notice:12495]

Proposed Establishment of Federally Funded Research and Development Centers—Third Notice

ACTION: Notice.

SUMMARY: The United States Department of State (DoS), Bureau of Administration, intends to sponsor Federally Funded Research and Development Centers (FFRDC) to facilitate public-private collaboration for numerous activities related to diplomacy and modernization. This is the third and final notice in the series which must be published over a 90-day period in order to advise the public of the agency's intention to sponsor an FFRDC.

DATES: Written comments were due by 5:00 p.m. Eastern time on August 15, 2024.

ADDRESSES: Please send any comments, identified by title of the action and Regulatory Information Number (RIN) by any of the following methods:

Through the Federal eRulemaking Portal at www.regulations.gov and search for nonrulemaking docket DOS-2024-0021.

By email: Submit electronic comments to FFRDC@state.gov.

The summary of this rule can be found at www.regulations.gov/DOS-2024-0021-.

SUPPLEMENTARY INFORMATION: The Department of State leads US engagement around the world building alliances and partnerships; facing up to aggression; aiding and supporting emerging democracies; and preserving US interests abroad. In a rapidly changing world with shifting politics, accelerated economic developments, global challenges such as climate change, and the increasing role digitization plays for both opportunity and threats, the Department is committed to leading through both policy and operational engagement on behalf of the nation and our government.

In a letter introducing the Department of State and U.S. Agency for International Development Joint Strategic Plan for 2022-2026, Secretary Blinken stated, “we are working to modernize and equip the Department and USAID to lead on 21st-Century challenges and deliver for the American people.”

Achieving U.S. goals for global leadership over the next decade will require the following:

• A diplomatic corps to use data in new ways to develop more foresight and insight, to inform policy options, to take actions and measure their effectiveness;

• New cross-sector partnerships and coalitions;

• Intergovernmental partnerships with the Department of Defense, the intelligence agencies, the Departments of Commerce, Treasury, Homeland Security, and Health and Human Services, and cross-government Councils (e.g., National Economic Council, National Security Council);

• New capabilities to plan, manage and execute initiatives and programs;

• A workforce that uses digital technology as tools to advance democracy and protect our interests and counter the use of these same technologies as a threat; and

• An organization and operation that is agile and adaptive to a changing environment; attractive to new talent; and fosters long-term commitment between the organization and its people.

The Department requires long-term partnerships with organizations that can bring research, development, innovation, and support needed to guide the leadership and employees through this transformative period in our history. This will allow the Department to focus on the mission at hand, while adopting and integrating changes necessary to make consistent progress on these goals and surge, when needed, to address urgent issues that require data, partnerships, technology and insights applied in near-term operational situations.

To meet this need, the Department seeks to establish and sponsor one FFRDC under the authority of 48 CFR 35.017.

FFRDC Focus Areas

The FFRDC will be available to provide a wide range of support including, but not limited to the activities listed below. These focus areas have been updated since the first two notices Federal Register notice were published on May 17 and August 5, 2024:

• Diplomatic Innovation and Modernization (DIM)

The purpose of the DIM is to strengthen global engagement and humanitarian outcomes by pioneering research and development initiatives that address emerging threats and foster international cooperation.

• Global CyberTech Solutions (GCS)

The purpose of the GCS is to enhance global stability through cutting edge research and development in IT, cyber defense, systems engineering, and data analytics.

• Global Operations and Acquisitions (GOA)

The purpose of the GOA is to advance diplomatic effectiveness through collaborative and cutting-edge acquisition methodologies and tools, and data assessments of broad scale Departments needs, international cooperation, and innovative operational practices.

The FFRDC will partner with the Department of State in the design and pursuit of mission goals; provide rapid responsiveness to changing requirements for personnel in all aspects of strategic, technical and program management; recognize Government objectives as its own objectives; partner in pursuit of excellence in public service; and allow for use of the FFRDC by non-sponsors. The Department is publishing this notice in accordance with 48 CFR 5.205(b) of the Federal Acquisition Regulations (FAR).

Planned Request for Information/Sources Sought Notice

Based on internal requirements and public comments from the first two notices, the Department intends to issue a Request for Information/Sources Sought. All interested parties should monitor SAM.gov for that posting in the near future. In particular, the Department will be interested in feedback regarding the proposed scope of the work to be performed by the FFRDCs, and the presence of any existing private- or public-sector capabilities in these areas that the Department should be considering. All response instructions will be found in the Sources Sought notice when it is published.

Public Comments

Since drafting the second notice, the Department has received the following comments/questions and is hereby providing the following responses:

The Department received seven (7) comments since the second notice. All of these comments expressed interest in submitting responses, capabilities, or eventually proposals for the FFRDCs. One comment requested information on how Service-Disabled Veteran-Owned Businesses can be involved with the FFRDC; however, FFRDC contract holders must fall within the list of organization types within FAR 35.017(a)(3). Finally, one of the commenters did provide feedback on the focus areas listed in the previous notice, which will be considered in developing the final Statement of Objectives prior to a formal solicitation. The Department appreciates the interest and looks forward to receiving further comments/questions and submissions in response to the Sources Sought Notice.

Michael W. Derrios,
Deputy Assistant Secretary for Acquisition, & Senior Procurement Executive, Department of State.

[FR Doc. 2024-18454 Filed 8-16-24; 8:45 am]

BILLING CODE 4710-24-P